DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of August and September 2004.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-55,435; Rock-Tenn Company, Aurora, IL.

TA-W-55,337; Benees, Inc., Farmington, MO.

TA-W-54,398; Monster Cable Products, Inc., Brisbane, CA.

TA-W-55,234; Lexmark International, Printing Services and Solutions Division, Lexington, KY.

TA-W-55,423; Granville Hosiery, Inc., Oxford NC.

TA-W-55,377; Gallade Technologies, including on-site leased workers from Adecco, Saginaw, MI.

TA-W-55,316; Westpoint Stevens, Inc., Greenville, AL.

TA-W-55,291; Uretech International, Inc., Luckey, OH.

TA-W-55,292; Thomasville Furniture, Inc., Plant 1, A Thomasville Upholstery Div., Statesville, NC.

TA-W-55,411; Belden Communications, Communications Division, a subsidiary of Belden, Inc., Phoenix, AZ.

The workers firm does not produce an article as required for certification under section 222 of the Trade Act of 1974.

TA-W-55,418; Electronic Data Systems Corp., Atlanta, GA.

TA-W-55,301; Plexus, a division of Banctec, Santa Clara, CA.

TA-W-55,356; GE Consumer Finance, a division of The General Electric Capital Corp., a division of The General Electric Company, Mason, OH.

TA-W-55,339; Fujitsu Network Communications, Inc., Services Division, Richardson, TX.

TA-W-55,100; Chattanooga General Services, Inc., a wholly owned subsidiary of General Industries of Tennessee, 5912 Quintus Loop, Chattanooga, TN.

TA-W-55,358; ECE Holding, Inc., d/b/a Stream, Eugene, OR.

TA-W-55,466; WSGM Holdings LLC, d/b/a Melton Industrial Truck, Burlington, NC.

TA-W-55,397; VIP USA, Inc. Formerly Lexington Services, Hotel Reservation Division, Irving, TX.

TA-W-55,417; Abbott Laboratories, Inc., Medisense Products, Customer Care Organization, Bedford, MA.

TA-W-55,382; Eclipsys Corp., Santa Rosa, CA.

The investigation revealed that criterion (a)(2)(A)(I.A) and (a)(2)(B)(II.A) (no employment decline) has not been met.

TA-W-55,391; eMag Solutions, LLC, Graham, TX.

TA-W-55,285 & A; Seagate Technology LLC, Recording Head Operations Division, Normandale, MN and Product and Technology Development Div., Shakopee, MN.

TA-W-55,447; Juno, Inc., McKinley Street Plant, including leased workers of Manpower, Inc., Anoka, MN.

TA-W-55,486; Visteon Systems, LLC, Connersville, IN.

TA-W-55,427; Kincaid Furniture, Taylorsville, NC.

The investigation revealed that criterion (a)(2)(A)(I.B) (Sales or production, or both, did not decline) and (a)(2)(B)(II.B) (has shifted production to a county not under the free trade agreement with U.S.) have not been met.

TA-W-55,321; Dynea USA, Inc., Eugene, OR.

TA-W-55,275; Teledyne Relays, a division of Teledyne Technologies, including on-site leased workers from Kelly Services and Volt Services Group, Hawthorne, CA.

TA-W-55,289; General Electric Inspection Technologies, LP, Lewistown, PA

The investigation revealed that criteria (2) has not been met. The workers' firm (or subdivision) is not a supplier or downstream producer to trade-affected companies.

TA-W-55,433; Peachtree MFN Products, Plant #2, Braselton, GA.

TA-W-55,374; Automodular Assemblies, a subsidiary of Automodular Assemblies (Canada), New Castle, DE.

The investigation revealed that criteria (a)(2)(A) (I.C) (increased imports) and (II.C) (has shifted production to a foreign country) have not been met.

TA-W-55,299; Gould Electronics, Inc., Eastlake, OH.

Affirmative Determinations for Worker Adjustment Assistance

The following certifications have been issued; the date following the company name and location of each determination references the impact date for all workers of such determination.

The following certifications have been issued. The requirements of (a)(2)(A) (increased imports) of Section 222 have been met.

TA-W-55,444; Broyhill Furniture Industries, Conover, NC: August 11, 2003.

TA-W-55,362; M.J. Wood Products, d/b/a Vermont Precision Woodworks, Morrisville, VT: July 27, 2003.

TA-W-55,421; Commonwealth Industries, Tube Enterprises Division, a subsidiary of Commonwealth Aluminum, Kings Mountain, NC: August 11, 2003.

TA-W-55,334; Mulholland Brothers, San Francisco, CA: July 21, 2003.

TA-W-55,451; Lawrence Hardware LLC, including on-site leased workers from Burton Placement and Manpower, Sterling, IL: July 28, 2003.

TA-W-55,399; Lonza, Inc., Bayport Plant, Pasadena, TX: August 4, 2003.

TA-W-55,414; Klipsch LLC, including on-site leased workers from Select Staff, Hope, AR: August 9, 2003.

TA-W-55,284; Moline Machinery Ltd, Duluth, MN: July 20, 2003.

TA-W-55,434; Kent Sporting Goods Company, Inc. New London, OH: August 3, 2003.

TA-W-55,298; Hewitt Soap Works, Inc., a subsidiary of Bradford Soap Works, Inc., Dayton, OH: June 22, 2003.

TA-W-55,282; Haworth Jonesboro Systems Products, a subsidiary of Haworth, Inc, including on-site leased workers from Staffmark, Jonesboro, AR: July 16, 2003.

TA-W-55,245; Commercial Vehicle Services, Inc., Canby, OR: July 9, 2003.

TA-W-55,239; Edron Fixture Corporation, Metal Shop Division, Miami, FL: July 12, 2003.

TA-W-55,493; Zenith Logistics, LLC, leased workers working at Bassett Furniture Industries, Macon, GA: August 20, 2003.

TA-W-55,501; Sandvik Special Metals LLC, Kennewick, WA: November 10, 2003.

TA-W-55,305; Tredegar Film Products U.S. LLC, a wholly owned subsidiary of Tredegar Film Products Corp., New Bern, NC: July 22, 2003.

TA-W-55,378; Employment Staffing, workers at Maxxim Medical, Honea Path, SC: August 3, 2003.

TA-W-55,366; Crisci Tool and Die, Inc., Leominster, MA: July 26, 2003.

TA-W-55,329; Westchester Lace, Knitting Department, North Bergen, NJ: July 21, 2003.

TA-W-55,331; Burlington Industries, LLC, Williamsburg Plant, Matkins, NC: August 22, 2004.

The following certifications have been issued. The requirements of (a)(2)(B) (shift in production) of section 222 have been met.

TA-W-55,372; Union Apparel, Inc., Norvelt, PA: December 1, 2003.

TA-W-55,422; Foamex LP, Williamsport, PA: August 3, 2003.

TA-W-55,479; Tyco Safety Products, a div. of SimplexGrinnell, a wholly owned subsidiary of Tyco Fire & Security, Westminster, MA: August 11, 2003.

TA-W-55,402; Royal Home Fashions, a subsidiary of Croscill, Inc., Plant 2, Henderson, NC: August 5, 2003.

TA-W-55,483; Siemens Energy and Automation, subsidiary of Siemens AG, Process Solutions Division, Process Instruments Business Unit, including leased workers of Staffing Network and Cornerstone, Modesto, CA: August 18, 2003.

TA-W-53,631; Main Street Textiles LP, Fall River, MA: November 18, 2002.

TA-W-55,343; Victoria Vogue, Inc., Bethlehem, PA: August 21, 2004.

TA-W-55,297; Superior Technical Resources, Inc., on-site leased workers at OSRAM Sylvania, Waldoboro, ME: June 22, 2003.

TA-W-55,280; Cooper Standard Automotive, NVH Division, El Dorado, AR: July 20, 2003.

TA-W-55,263 & A; Fabrictex, Inc., Lincolnton, NC and Sales Office, New York, NY: July 12, 2003.

TA-W-55,384; Pleasant Hill Manufacturing, a subsidiary of King Louie International, Inc., Wagoner, OK: July 26, 2003.

TA-W-55,315; Manpower, workers at Drexel Heritage Furniture Industries, Plant 2, Marion, NC: July 14, 2003.

TA-W-55,257; Russell Athletic, Focused Factory, a division of Russell Corp., Alexander City, AL, A; Russell Activewear, Plant 10, a div. of Russell Corp., Alexander City, AL, B; Russell Corporation, Sales Office Drive, Alexander City, AL, C; Russell Athletic, New #1 Mill, a division of Russell Corp., Alexander City, AL and D; Russell Activewear, New #1 Mill, a div. of Russell Corp., Alexander City, AL: July 12, 2003.

TA-W-55,456; Five Rivers Electronic Innovations, LLC, Cabinet Div., Jefferson City, TN: August 13, 2003.

T-W-55,467; Precision Moulding LLC, a subsidiary of Tara Materials, Inc., Cottonwood, CA: August 16, 2003.

TA-W-55,360; Henry County Plywood Corporation, including on-site leased workers from Aztec Labor Resources, Inc., Ridgeway, VA: July 31, 2001.

The following certifications have been issued. The requirement of upstream supplier to a trade certified primary firm has been met.

TA-W-55,477; Screen Specialty Shop, Inc., West Jefferson, NC: August 9, 2003.

TA-W-55,205; The Boeing Company, Fabrication Division, Boeing-Oak Ridge, Inc., Oak Ridge, TN: April 23, 2004.

The following certification has been issued. The requirement of downstream producer to a firm trade certified was certified on the basis of a shift of production or imports from Canada or Mexico.

TA-W-55,458; Decrane Cabin Interiors, a division of Decrane Aircraft, Tucson, AZ: August 6, 2003.

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

The Department as determined that criterion (2) of section 246 has not been met. Workers at the firm possess skills that are easily transferable.

TA-W-55,451; Lawrence Hardware LLC, including on-site leased workers from Burton Placement and Manpower, Sterling, IL.

TA-W-55,399; Lonza, Inc., Bayport Plant, Pasadena, TX.

TA-W-55,414; Klipsch LLC, including on-site leased workers from Select Staff, Hope, AR.

TA-W-55,483; Siemens Energy and Automation, subsidiary of Siemens AG, Process Solutions Div., Process Instruments Business Unit, including leased workers of Staffing Network and Cornerstone, Modesto, CA.

TA-W-55,205; The Boeing Company, Fabrication Division, Boeing-Oak Ridge, Inc., Oak Ridge, TN.

Since the workers are denied eligibility to apply for TAA, the workers cannot be certified eligible for ATAA.

TA-W-55,374; Automodular Assemblies, a subsidiary of Automodular Assemblies (Canada), New Castle, DE.

TA-W-55,433; Peachtree MFN Products, Plant #2, Braselton, GA.

TA-W-55,275; Teledyne Relays, a division of Teledyne Technologies, including on-site leased workers from Kelly Services and Volt Services Group, Hawthorne, CA.

TA-W-55,289; General Electric Inspection Technologies, LP, Lewistown, PA.

TA-W-55,285 & A; Seagate Technology LLC, Recording Head Operations Division, Normandale, MN, Product and Technology Development Div., Shakopee, MN.

TA-W-55,447; Juno, Inc., Mckinley Street Plant, including leased workers of Manpower, Inc., Anoka, MN.

TA-W-55,486; Visteon Systems LLC, Connersville, IN.

TA-W-55,427; Kincaid Furniture, Taylorsville, NC.

TA-W-55,466; WSGM Holdings LLC, d/b/a Melton Industrial Truck, Burlington, NC.

TA-W-55,397; VIP USA, Inc., formerly Lexington Services, Hotel Reservation Division, Irving, TX.

TA-W-55,417; Abbott Laboratories, Inc., Medisense Products, Customer Care Organization, Bedford, MA.

TA-W-55,382; Eclipsys Corp., Santa Rosa, CA.

TA-W-55,234; Lexmark International, Printing Services and Solutions Division, Lexington, KY.

TA-W-55,423; Gramville Hosiery, Inc., Oxford, NC.

TA-W-55,316; Westpoint Stevens, Inc., Greenville, AL.

TA-W-55,377; Gallade Technologies, including on-site leased workers from Adecco, Saginaw, MI.

TA-W-55,291; Uretech International, Inc., Luckey, OH.

TA-W-55,292; Thomasville Furniture, Inc., Plant 1, A Thomasville Upholstery Div., Statesville, NC.

TA-W-55,411; Belden Communications, Communications Div., a subsidiary of Belden, Inc., Phoenix, AZ.

TA-W-55,299; Gould Electronics, Inc., Eastlake, OH.

Affirmative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-53,631; Main Street Textiles LP, Fall River, MA: November 18, 2002.

TA-W-55,331; Burlington Industries, LLC, Williamsburg Plant, Matkins, NC: August 22, 2004.

TA-W-55,329; Westchester Lace, Knitting Department, North Bergen, NJ: July 21, 2003.

TA-W-55,305; Tredegar Film Products U.S. LLC, a wholly owned subsidiary of Tredegar Film Products Corp., New Bern, NC: July 22, 2003.

TA-W-55,378; Employment Staffing, Workers at Maxim Medical, Honea Path, SC: August 3, 2003.

TA-W-55,366; Crisci Tool and Die, Inc., Leominsterm MA: July 26, 2003.

TA-W-55,360; Henry County Plywood Corp., including on-site leased workers from Aztec Labor Resources, Inc., Ridgeway, VA: July 31, 2003.

TA-W-55,501; Sandvik Special Metals LLC, Kennewick, WA: November 10, 2003.

TA-W-55,467; Precision Moulding LLC, a subsidiary of Tara Materials, Inc., Cottonwood, CA: August 16, 2003.

TA-W-55,493; Zenith Logistics, LLC, leased workers working at Bassett Furniture Industries, Macon, GA: August 20, 2003.

TA-W-55,456; Five Rivers Electronic Innovations, LLC, Cabinet Div., Jefferson City, TN: August 13, 2003.

TA-W-55,458; Decrane Cabin Interiors, a division of Decrane Aircraft, Tucson, AZ: August 6, 2003.

TA-W-55,257; Russell Athletic, Focused Factory, a division of Russell Corp., Alexander City, AL, A; Russell Activewear, Plant #10, a division of Russell Corp., Alexander City, AL, B; Russell Corp., Sales Office Drive, Alexander City, AL, C; Russell Athletic, New #1 Mill, a division of Russell Corp., Alexander City, AL, D; Russell Activewear, New #1 Mill, a division of Russell Corp., Alexander City, AL: July 12, 2003.

TA-W-55,315; Manpower, workers at Drexel Heritage Furniture Industries, Plant 2, Marion, NC: July 24, 2003.

TA-W-55,384; Pleasant Hill Manufacturing, a subsidiary of King Louie International, Inc., Wagoner, OK: July 26, 2003.

TA-W-55,239; Edron Fixture Corp., Metal Shop Div., Miami, FL: July 12, 2003.

TA-W-55,245; Commercial Vehicle Services, Inc., Canby, OR: July 9, 2003.

TA-W-55,263 & A; Fabrictex, Inc., Lincolnton, NC and Sales Office, New York, NY: July 12, 2003.

TA-W-55,280; Cooper Standard Automotive, NVH Div., El Dorado, AR: July 20, 2003.

TA-W-55,282; Haworth Jonesboro Systems Products, a subsidiary of Haworth, In., including on-site leased workers from Staffmark, Jonesboro, AR: July 16, 2003.

TA-W-55,297; Superior Technical Resources, Inc., On-Site Leased workers at OSRAM Syslvania, Waldoboro, ME: June 22, 2003.

TA-W-55,298; Hewitt Soap Works, Inc., a subsidiary of Bradford Soap Works, Inc., Dayton, OH: June 22, 2003.

TA-W-55,343; Victoria Vogue, Inc., Bethlehem, PA: August 21, 2004.

TA-W-55,434; Kent Sporting Goods Co., Inc., New London, OH: August 3, 2003.

TA-W-55,284; Moline Machinery Ltd, Duluth, MN: July 20, 2003.

TA-W-55,355; Advance Transformer, a division of Philips Lighting, Boscobel, WI: August 13, 2004.

TA-W-55,359; Brown & Williamson Tobacco Corporation, Wilson Leaf Division, Wilson, NC: July 30, 2003.

TA-W-55,379; Invisible Technologies, Inc., including leased workers of Pro Resources, Kelly Services and People Link, Garrett, IN: August 2, 2003.

I hereby certify that the aforementioned determinations were issued during the months of August and September 2004. Copies of these determinations are available for inspection in Room C-5311, U.S. Department of Labor, 200 Constitution Avenue, NW., Washington, DC 20210 during normal business hours or will be mailed to persons who write to the above address.

Dated: September 17, 2004.
Timothy Sullivan,
Director, Division of Trade Adjustment Assistance.

[FR Doc. E4-2333 Filed 9-22-04; 8:45 am]

BILLING CODE 4510-30-P